DEPARTMENT OF ENERGY

Federal Energy Regulatory Commission

[Project No. 459-212]

Union Electric Company, dba AmerenUE; Notice of Availability of Environmental Assessment

June 10, 2009.

In accordance with the National Environmental Policy Act of 1969, as amended, and the Federal Energy Regulatory Commission's (Commission) regulations (18 CFR Part 380), Commission staff has reviewed the Shoreline Management Plan (SMP), filed March 28, 2008, for the Osage Project (FERC No. 459). An environmental assessment (EA) has been prepared as part of staff's review. The project licensee, AmerenUE, developed the SMP in accordance with license article 417 of the license for the Osage Project. The project is located in Benton, Camden, Miller, and Morgan Counties, Missouri.

In the EA, Commission staff analyzes the probable environmental effects of the SMP and concludes that approval of the SMP, with appropriate environmental measures, would not constitute a major Federal action significantly affecting the quality of the human environment.

A copy of the EA is available for review at the Commission's Public Reference Room, or it may be viewed on the Commission's Web site at http://www.ferc.gov using the “eLibrary” link. Enter the docket number (P-459) in the docket number field to access the document. For assistance, call (202) 502-8222, or (202) 502-8659 (for TTY).

Any comments should be filed by, July 10, 2009, and should be addressed to Secretary, Federal Energy Regulatory Commission, 888 First Street, NE., Washington, DC 20426. Please reference the Osage Project No. 459, on all comments. For further information on this notice, please contact Shana High at (202) 502-8674.

Comments may be filed electronically via the Internet in lieu of paper. See 18 CFR 385.2001 (a)(1)(iii) and the instructions on the Commission's Web site at http://www.ferc.gov under the e-Filing link. The Commission strongly encourages electronic filing.

Kimberly D. Bose,
Secretary.

[FR Doc. E9-14194 Filed 6-16-09; 8:45 am]

BILLING CODE 6717-01-P